DEPARTMENT OF HOUSING AND URBAN DEVELOPMENT

[Docket No. FR-7034-N-57]

30-Day Notice of Proposed Information Collection: Application for Displacement/Relocation/Temporary Relocation Assistance for Persons; OMB Control No.: 2506-0016

AGENCY: Office of the Chief Information Officer, Housing and Urban Development (HUD).

ACTION: Notice.

SUMMARY: HUD is seeking approval from the Office of Management and Budget (OMB) for the information collection described below. In accordance with the Paperwork Reduction Act, HUD is requesting comment from all interested parties on the proposed collection of information. The purpose of this notice is to allow for 30 days of public comment.

DATES: Comments Due Date: November 5, 2021.

ADDRESSES: Interested persons are invited to submit comments regarding this proposal. Written comments and recommendations for the proposed information collection should be sent within 30 days of publication of this notice to OIRA_submission@omb.eop.gov or www.reginfo.gov/public/do/PRAMain. Find this particular information collection by selecting “Currently under 30-day Review—Open for Public Comments” or by using the search function.

FOR FURTHER INFORMATION CONTACT: Anna P. Guido, Reports Management Officer, QMAC, Department of Housing and Urban Development, 451 7th Street SW, Washington, DC 20410; email her at Anna.P.Guido@hud.gov or telephone 202-402-5535. This is not a toll-free number. Person with hearing or speech impairments may access this number through TTY by calling the toll-free Federal Relay Service at (800) 877-8339. Copies of available documents submitted to OMB may be obtained from Ms. Guido.

SUPPLEMENTARY INFORMATION: This notice informs the public that HUD is seeking approval from OMB for the information collection described in Section A.

The Federal Register notice that solicited public comment on the information collection for a period of 60 days was published on July 21, 2021 at 86 FR 38495.

A. Overview of Information Collection

Title of Information Collection: Application for Displacement/Relocation/Temporary Relocation Assistance for Persons.

OMB Approval Number: 2506-0016.

Type of Request: Extension of currently approved collection.

Form Number: HUD-40030, HUD-40054, HUD-40055, HUD-40056, HUD-40057, HUD-40058, HUD-40061, and HUD-40072.

Description of the need for the information and proposed use:

Application for displacement/relocation assistance for persons (families, individuals, businesses, nonprofit organizations and farms) displaced by, or temporarily relocated for, certain HUD programs. No changes are being made for Forms HUD-40030, HUD-40054, 40055, HUD-40056, HUD-40057, HUD-40058, HUD-40061, and HUD-40072.

Information collection | Number of respondents | Frequency of response | Responses per annum | Burden hour per response | Annual burden hours | Hourly cost per response | Annual cost
HUD 40054 | 12,000.00 | 1.00 | 12,000.00 | 0.5 | 6,000.00 | $26.09 | $156,540.00
HUD 40055 | 400.00 | 1.00 | 400.00 | 1.5 | 600.00 | 26.09 | 15,654.00
HUD 40056 | 400.00 | 1.00 | 400.00 | 1.0 | 400.00 | 26.09 | 10,436.00
HUD 40030 | 25,000.00 | 1.00 | 25,000.00 | 1.0 | 25,000.00 | 26.09 | 652,250.00
HUD 40057 | 1,250.00 | 1.00 | 1,250.00 | 1.0 | 1,250.00 | 26.09 | 32,612.50
HUD 40058 | 8,750.00 | 1.00 | 8,750.00 | 1.0 | 8,750.00 | 26.09 | 228,287.50
HUD 40072 | 2,000.00 | 1.00 | 2,000.00 | 1.0 | 2,000.00 | 26.09 | 52,180.00
HUD 40061 | 12,000.00 | 1.00 | 12,000.00 | 1.0 | 12,000.00 | 26.09 | 313,080.00
Total | 61,800.00 | 1.00 | 61,800.00 |  | 56,000.00 | 26.09 | 1,461,040.00

B. Solicitation of Public Comment

This notice is soliciting comments from members of the public and affected parties concerning the collection of information described in Section A on the following:

(1) Whether the proposed collection of information is necessary for the proper performance of the functions of the agency, including whether the information will have practical utility;

(2) If the information will be processed and used in a timely manner;

(3) The accuracy of the agency's estimate of the burden of the proposed collection of information;

(4) Ways to enhance the quality, utility, and clarity of the information to be collected; and

(5) Ways to minimize the burden of the collection of information on those who are to respond; including through the use of appropriate automated collection techniques or other forms of information technology, e.g., permitting electronic submission of responses.

HUD encourages interested parties to submit comment in response to these questions.

C. Authority

Section 3507 of the Paperwork Reduction Act of 1995, 44 U.S.C. Chapter 35.

Anna P. Guido,
Department Reports Management Officer, Office of the Chief Information Officer.

[FR Doc. 2021-21784 Filed 10-5-21; 8:45 am]

BILLING CODE 4210-67-P